DEPARTMENT OF ENERGY

Federal Energy Regulatory Commission

[Docket No. PF09-12-000]

East Cheyenne Gas Storage, LLC; Notice of Intent To Prepare an Environmental Assessment for the Planned East Cheyenne Gas Storage Project, and Request for Comments on Environmental Issues

July 13, 2009.

The staff of the Federal Energy Regulatory Commission (FERC or Commission) will prepare an environmental assessment (EA) that will discuss the environmental impacts of the East Cheyenne Gas Storage Project involving construction and operation of facilities by Cheyenne Gas Storage, LLC (East Cheyenne) in Logan County, Colorado. This EA will be used by the Commission in its decision-making process to determine whether the project is in the public convenience and necessity.

This notice announces the opening of the scoping process the Commission will use to gather input from the public and interested agencies on the project. Your input will help the Commission staff determine what issues need to be evaluated in the EA. Please note that the scoping period will close on August 12, 2009.

This notice is being sent to the Commission's current environmental mailing for this project, which includes affected landowners; federal, state, and local government representatives and agencies; elected officials; environmental and public interest groups; Native American Tribes; other interested parties; and local libraries and newspapers. Interested parties are encouraged to submit comments on the environmental issues they believe should be addressed in the EA. State and local government representatives are asked to notify their constituents of this planned project and encourage them to comment on their areas of concern.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings.

Summary of the Planned Project

East Cheyenne plans to develop, construct, own and operate a natural gas storage facility in two nearly depleted oil production fields in Logan County, Colorado. Prior to, and concurrent with development of the gas storage fields, East Cheyenne plans to proceed with enhanced oil recovery (EOR) of petroleum reserves remaining in the storage fields. The construction and operation of the EOR facilities are under the jurisdiction of the Colorado Oil and Gas Conservation Commission (COGCC). Conversion or plugging of existing wells in the fields would be necessary as part of the EOR activities. The Cheyenne Gas Storage Project is anticipated to have an initial working gas storage capacity of approximately 9.8 billion cubic feet (Bcf), which would increase to approximately 18.9 Bcf between 3 and 5 years after operation begins.

The East Cheyenne Storage Project would consist of the following facilities:

• Ten gas injection/withdrawal wells to be drilled from six new well pads;

• A compressor station for injection and withdrawal of natural gas;

• Approximately 83,500 feet of 4- to 30-inch-diameter pipelines connecting the wellheads to the compressor station and associated facilities;

• A natural gas liquids recovery plant;

• Two water injection/disposal wells;

• Dual 24-inch-diameter pipelines to be constructed in a single corridor interconnecting with the Rockies Express Pipeline, LLC and Trailblazer Pipeline Company interstate natural gas pipelines at a site 3.5 miles north of the planned compressor station site;

• A meter station at the interstate pipeline system interconnects;

• Gas dehydration facilities;

• Amine treating facilities;

• Support facilities for construction; and

• Ancillary facilities necessary to operate the storage facility, flow lines, wells, and compressor facilities.

The general location of the project facilities is shown in appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

The project would involve storing natural gas in nearly depleted reservoirs that underlie an area of approximately 2,400 acres, with an additional 3,600 acres serving as a storage buffer area. Construction of the planned facilities would disturb about 352.11 acres of land for the aboveground facilities and the pipelines. An additional 166.79 acres would be disturbed for non-jurisdictional facilities associated with EOR operations. Following construction, about 127.67 acres would be maintained for permanent operation of the gas storage project's facilities and 72.36 acres for non-jurisdictional EOR operations; the remaining acreage would be restored and allowed to revert to former uses. Much of the planned pipeline right-of-way would be parallel to existing County Road 39.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this notice, the Commission requests public comments on the scope of the issues to address in the EA. All comments received will be considered during the preparation of the EA.

² “We”, “us”, and “our” refer to the environmental staff of the Commission's Office of Energy Projects.

In the EA, we will discuss impacts that could occur as a result of the construction and operation of the planned project under these general headings:

• Geology and soils;

• Land use;

• Water resources, fisheries, and wetlands;

• Cultural resources;

• Vegetation and wildlife;

• Air quality and noise;

• Endangered and threatened species;

• Hazardous waste; and

• Public safety.

We will also evaluate possible alternatives to the planned project or portions of the project, and make recommendations on how to lessen or avoid impacts on the various resource areas.

Although no formal application has been filed, we have already initiated our NEPA review under the Commission's Pre-filing Process. The purpose of the Pre-filing Process is to encourage early involvement of interested stakeholders and to identify and resolve issues before an application is filed with the FERC. As part of our pre-filing review, we have begun to contact some federal and state agencies to discuss their involvement in the scoping process and the preparation of the EA.

Our independent analysis of the issues will be presented in the EA. Depending on the comments received during the scoping process, the EA may be published and mailed to those on our environmental mailing list (see discussion of how to remain on our mailing list on page 6). A comment period will be allotted for review if the EA is published. We will consider all comments on the EA before we make our recommendations to the Commission.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Currently Identified Environmental Issues

We have already identified one issue that we think deserves attention based on a preliminary review of the planned facilities and the environmental information provided by East Cheyenne. Blue Sky Gas Storage, LLC (Docket No. CP09-428-000) is proposing a storage project in the same general area of Logan County as the planned East Cheyenne Storage Project. The EA will address potential cumulative impacts associated with construction and operation of both storage facilities.

Public Participation

You can make a difference by providing us with your specific comments or concerns about the project. Your comments should focus on the potential environmental effects, reasonable alternatives, and measures to avoid or lessen environmental impacts. The more specific your comments, the more useful they will be. To ensure that your written comments are timely and properly recorded, please send in your comments so that they will be received in Washington, DC on or before August 12, 2009.

For your convenience, there are three methods which you can use to submit your written comments to the Commission. The Commission encourages electronic filing of comments and has expert eFiling staff available to assist you at 202-502-8258 or efiling@ferc.gov.

(1) You may file your comments electronically by using the Quick Comment feature, which is located at http://www.ferc.gov under the link called “Documents and Filings”. A Quick Comment is an easy method for interested persons to submit text-only comments on a project;

(2) You may file your comments electronically by using the “eFiling” feature that is listed under the “Documents and Filings” link. eFiling involves preparing your submission in the same manner as you would if filing on paper, and then saving the file on your computer's hard drive. You will attach that file to your submission. New eFiling users must first create an account by clicking on the links called “Sign up” or “eRegister”. You will be asked to select the type of filing you are making. A comment on a particular project is considered a “Comment on a Filing”; or

(3) You may file your comments with the Commission via mail by sending an original and two copies of your letter to: Kimberly D. Bose, Secretary, Federal Energy Regulatory Commission, 888 First Street, NE., Room 1A, Washington, DC 20426.

In all instances, please reference the project docket number PF09-12-000 with your submission. Label one copy of the comments for the attention of Gas Branch 1, PJ-11.1.

Environmental Mailing List

An effort is being made to send this notice to all individuals, organizations, and government entities interested in and/or potentially affected by the planned project. This includes all landowners who are potential right-of-way grantors, whose property may be used temporarily for project purposes, or who own homes within certain distances of aboveground facilities (as defined in the Commission's regulations).

If you do not want to send comments at this time but still want to remain on our mailing list, please return the Information Request (appendix 2). If you do not return the Information Request, you will be taken off the mailing list.

Becoming an Intervenor

Once East Cheyenne files its application with the Commission, you may want to become an “intervenor”, which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site. Please note that you may not request intervenor status at this time. You must wait until a formal application for the project is filed with the Commission.

Additional Information

Additional information about the project is available from the Commission's Office of External Affairs, at 1-866-208-FERC or on the FERC Web site (http://www.ferc.gov) using the eLibrary link. Click on the eLibrary link, click on “General Search” and enter the docket number, excluding the last three digits, in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E9-17238 Filed 7-20-09; 8:45 am]

BILLING CODE P